DEPARTMENT OF THE INTERIOR

National Park Service

[NPS-WASO-NRNHL-DTS#-32184; PPWOCRADI0, PCU00RP14.R50000]

National Register of Historic Places; Notification of Pending Nominations and Related Actions

AGENCY: National Park Service, Interior.

ACTION: Notice.

SUMMARY: The National Park Service is soliciting electronic comments on the significance of properties nominated before June 19, 2021, for listing or related actions in the National Register of Historic Places.

DATES: Comments should be submitted electronically by July 14, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 19, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Mineral County

Bachelor-Commodore Mine Complex (Mining Industry in Colorado, MPS), Cty. Rd. 503, Creede vicinity, MP100006753

FLORIDA

Bay County

Panama City Publishing Company Building, 1134 Beck Ave., Panama City, SG100006752

Jefferson County

Old Howard Academy, (Florida's Historic Black Public Schools MPS), 835 Mamie Scott Dr., Monticello, MP100006751

St. Johns County

St. Augustine Public Burying Ground, South Castillo Dr., St. Augustine, SG100006756

Walton County

Eden Mansion, 181 Eden Gardens Rd., Santa Rosa Beach vicinity, SG100006749

Lakeside Hospital, 1290 Circle Dr., DeFuniak Springs, SG100006750

KANSAS

Shawnee County

Fool Chief's Village (Kanza People (Kaáⁿze níkashiⁿga) of Kansas MPS), Address Restricted, Menoken vicinity, MP100006772

MICHIGAN

Leelanau County

Fishtown Historic District, West River St., West Cedar St., West Avenue A, Leland Township, SG100006765

NEW MEXICO

Santa Fe County

Hyde Memorial State Park (New Deal in New Mexico MPS), 740 Hyde Park Rd. (NM 475), Santa Fe vicinity, MP100006766

La Cieneguilla Petroglyphs (Ancestral Puebloan and Spanish Colonial Landscapes in the Greater Galisteo Basin MPS), Address Restricted, La Cieneguilla vicinity, MP100006767

Burnt Corn Pueblo Archaeological District (Ancestral Puebloan and Spanish Colonial Landscapes in the Greater Galisteo Basin MPS), Address Restricted, Cerrillos vicinity, MP100006768

NEW YORK

Bronx County

St. Stephen's Mission Church Complex, 4331 Vireo Ave., 435 and 439 East 238th St., Bronx, SG100006758

Columbia County

Gallatin Reformed Church & Cemetery, 234 Cty. Rd. 7, Gallatinville, SG100006759

Van Alstyne, Peter Sander, House, 2221 US 9, Kinderhook, SG100006760

Erie County

Bank of East Aurora, 649 Main St., East Aurora, SG100006757

Genesee County

St. Mark's Episcopal Church & Cemetery, 1 East Main St., LeRoy, SG100006761

Kings County

Chevra Torah Anshei Radishkowitz, 139 Amboy St., Brooklyn, SG100006762

Onondaga County

Upsilon Alpha Chapter, Chi Omega House, 300 Waverly Ave., Syracuse, SG100006764

Suffolk County

Point O'Woods Historic District, Point O'Woods, Bay, and Ridge Aves., Church St., Point O'Woods, SG100006763

Westchester County

Fleischmann, Gustav and Marion, House, 1425 Riverview Ave., Peekskill, SG100006769

TEXAS

Harris County

Hollyfield Laundry and Cleaners, 1731 Westheimer Rd., Houston, SG100006770

Nomination submitted by Federal Preservation Officer:

The State Historic Preservation Officer reviewed the following nomination and responded to the Federal Preservation Officer within 45 days of receipt of the nomination and supports listing the property in the National Register of Historic Places.

MISSOURI

Jackson County

Federal Office Building, 601 East 12th St., Kansas City, SG100006773

Authority: Section 60.13 of 36 CFR part 60.

Dated: June 23, 2021.
Sherry A. Frear,
Chief, National Register of Historic Places/National Historic Landmarks Program.

[FR Doc. 2021-13825 Filed 6-28-21; 8:45 am]

BILLING CODE 4312-52-P